FEDERAL HOUSING FINANCE BOARD

12 CFR Part 925

Members of the Banks

CFR Correction

In Title 12 of the Code of Federal Regulations, Part 900 to End, revised as of January 1, 2009, on page 88, in § 925.4, in paragraph (c)(2), revise the reference “§ 925.25(b)(4)(i)” to read “§ 925.24(b)(4)(i)”.

[FR Doc. E9-30374 Filed 12-18-09; 8:45 am]

BILLING CODE 1505-01-D